ENVIRONMENTAL PROTECTION AGENCY

[FRL-7248-6]

Agency Information Collection Activities: Submission for OMB Review; Comment Request; 2003 Report to Congress on Impacts and Control of Combined Sewer Overflows and Sanitary Sewer Overflows

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: 2003 Report to Congress on Impacts and Control of Combined Sewer Overflows and Sanitary Sewer Overflows and expires one year from the effective date of the ICR. The ICR describes the nature of the information collection and its expected burden and cost; where appropriate, it includes the actual data collection instrument.

DATES: Comments must be submitted on or before August 21, 2002.

ADDRESSES: Send comments, referencing EPA ICR No. 2063.01, to the following addresses: Susan Auby, U.S. Environmental Protection Agency, Collection Strategies Division (Mail Code 2822T), 1200 Pennsylvania Avenue, NW, Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epa.gov or download off the Internet at http://www.epa.gov/icr and refer to EPA ICR No. 2063.01 For technical questions about the ICR contact Kevin DeBell, Office of Water, at (202) 564-0040.

SUPPLEMENTARY INFORMATION:

Title: 2003 Report to Congress on Impacts and Control of Combined Sewer Overflows and Sanitary Sewer Overflows (EPA ICR No. 2063.01) expiring one year from the effective date of the ICR. This is a new collection.

Abstract: EPA is developing the 2003 Report to Congress on Impacts and Control of Combined Sewer Overflows and Sanitary Sewer Overflows to meet a requirement included in the Consolidated Appropriations Act for Fiscal Year 2001, Public Law 106-554. EPA's Office of Wastewater Management (OWM) will use data from federal sources, state environmental agencies, state and local health departments, and municipalities to determine, summarize, and report the extent of human health and environmental impacts caused by municipal combined sewer overflows (CSOs) and sanitary sewer overflows (SSOs). This Report will also include information on resources spent to address these impacts and an evaluation of the technologies used by municipalities to address these impacts. In addition, this Report will support EPA's SSO Notice of Proposed Rulemaking effort and data integration efforts for the National Pollutant Discharge Elimination System (NPDES) program.

OWM's method for collecting and analyzing the data for CSOs and SSOs from state environmental agencies, state and local health departments, and municipalities is as follows: site visits; interviews; file review; and phone calls to a subset of publicly owned treatment works (POTWs) and health departments nationwide. In addition, information that is collected from the various entities is voluntary and available to the public.

The data collected and analyzed for this Report will include the location of permitted and unpermitted wastewater discharges, the volume of pollutants discharged, and the constituents discharged; environmental and public health impacts of discharges; the resources spent to address these impacts; and an evaluation of the technologies used to address these impacts.

The burden for states and municipalities to provide, analyze, and review data submitted is a total of 6,300 hours and a cost of $307,492. This burden will occur once, and the collection of information should be completed one-year from the effective date of the ICR. Of the total portion, the municipal burden is 2,565 hours and $121,986. The states burden is 3,735 hours and $185,506.

All data will be stored in a data management system developed by OWM. The data will be used as a cornerstone of the 2003 Report to Congress, giving federal offices, states, municipalities, and the public full access to the data collected both in print and through OWM's website (www.epa.gov/npdes).

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on 05/02/02 (67 FR 22077-22078); no comments were received.

Burden Statement: The annual public reporting and recordkeeping burden for this collection of information will vary in hours, depending on the available information. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected: State environmental agencies; State and local health departments; Municipal wastewater treatment authorities

Estimated Number of Respondents: 535.

Frequency of Response: Once.

Estimated Total Annual Hour Burden: 6,300

Estimated Total Annualized Capital, O&M Cost Burden: $0.00.

Send comments on the Agency's need for this information, the accuracy of the provided burden estimates, and any suggested methods for minimizing respondent burden, including through the use of automated collection techniques to the addresses listed above. Please refer to EPA ICR No. 2063.01 in any correspondence.

Dated: July 11, 2002.
Oscar Morales,
Director, Collection , Strategies Division.

[FR Doc. 02-18409 Filed 7-19-02; 8:45 am]

BILLING CODE 6560-50-P